DEPARTMENT OF HOUSING AND URBAN DEVELOPMENT

[Docket No. FR-5486-N-04]

Notice of Proposed Information Collection for Public Comment on the Online Innovation Submission Form for the Innovation of the Day Project

AGENCY: Office of Policy Development and Research, HUD.

ACTION: Notice of proposed information collection.

SUMMARY: The proposed information collection requirement described below will be submitted to the Office of Management and Budget (OMB) for review, as required by the Paperwork Reduction Act of 1995, Public Law 104-13 (44 U.S.C. 3506 (c) (2) (A)). The Department is soliciting public comments on the subject proposal.

DATES: Comments Due Date: April 12, 2011.

ADDRESSES: Interested persons are invited to submit comments regarding this proposal.

Comments should refer to the proposal by name and/or OMB Control Number and should be sent to: Reports Liaison Officer, Office of Policy Development and Research, Department of Housing and Urban Development, 451 7th Street, SW., Room 8234, Washington, DC 20410.

FOR FURTHER INFORMATION CONTACT: Sarah Gillespie at (202) 402-5843 (this is not a toll-free number). Copies of the proposed forms and other available documents submitted to OMB may be obtained from Ms. Gillespie.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology that will reduce burden, (e.g., permitting electronic submission of responses).

This Notice also lists the following information:

Title of Proposal: Innovation of the Day Project.

OMB Control Number: XXXX-pending.

Description of the need for the information and proposed use: The Online Innovation Submission Form is necessary to collect information for sharing with the public through the Innovation of the Day Project.

“Innovation of the Day” is a new online submission and display platform located on HUD.gov, facilitated through the Office for International and Philanthropic Innovation (IPI) in PD&R at HUD. The simple and intuitive platform is designed to seek out and lift up the best models, practices and systems in the area of housing and community development, from both inside and outside HUD, and expose them to the public through continuous updates to the Innovation of the Day Web site. The submissions will be available to HUD and non-HUD employees to encourage a synergy within and without on these kinds of innovations. HUD employees will connect to the work as they begin to notice, search for and submit innovations from the field and from within HUD to the page. This will create a sense of ownership, awareness and connection to the work in the field and give HUD staff the chance to engage as they may not have previously. Non-HUD individuals will also develop a greater connection to HUD and its work in housing and community development. It will indirectly give some exposure to their own work as they fill out the submission and it is posted.

Members of affected public: Individuals.

Estimation of the total number of hours needed to prepare the information collection including number of respondents, frequency of response, and hours of response:

Estimated Respondent Burden Hours and Costs
Form | Respondent sample | Number of respondents | Average time to complete (minimum, maximum) in minutes | Frequency | Total burden (hours)
Online Innovation Submission Form | The public | Approx. 2-10 per day | 10 min (5-15 min) | 20 days per month | 6-30 hours per month

Respondent's Obligation: Voluntary.

Status of the proposed information collection: Pending OMB approval.

Authority: Title 13 U.S.C. Section 9(a), and Title 12, U.S.C., Section 1701z-1 et seq.

Dated: February 3, 2011.
Raphael W. Bostic,
Assistant Secretary for Policy Development and Research.

[FR Doc. 2011-3148 Filed 2-10-11; 8:45 am]

BILLING CODE 4210-67-P